FEDERAL COMMUNICATIONS COMMISSION

47 CFR Part 52

[WC Docket No. 07-244, CC Docket No. 95-116; DA 11-1558]

Local Number Portability Porting Interval and Validation Requirements; Telephone Number Portability

AGENCY: Federal Communications Commission.

ACTION: Proposed rule; comments requested.

SUMMARY: In this document, the Commission seeks comment on a submission by the North American Numbering Council (NANC) recommending a set of standard thresholds and intervals for non-simple ports and “projects”—port requests that involve a large quantity of telephone numbers. Specifically, the Commission seeks comment on whether the thresholds and processing timelines for non-simple ports and projects are appropriate and whether the Commission should adopt the recommendation as a rule.

DATES: Comments must be filed on or before October 31, 2011 and reply comments on or before November 29, 2011.

ADDRESSES: Interested parties may submit comments, identified by WC Docket No. 07-244 and CC Docket No. 95-116, by any of the following methods:

• Federal eRulemaking Portal: http://www.regulations.gov. Follow the instructions for submitting comments.

• Federal Communications Commission's Web Site: http://www.fcc.gov/cgb/ecfs/. Follow the instructions for submitting comments.

• E-mail: ecfs@fcc.gov, and include the following words in the body of the message, “get form.” A sample form and directions will be sent in response. Include the docket number(s) in the subject line of the message.

• Mail: Secretary, Federal Communications Commission, 445 12th Street, SW., Washington, DC 20554.

• Hand Delivery/Courier: FCC Headquarters building located at 445 12th Street, SW., Room TW-A325, Washington, DC 20554.

• People with Disabilities: Contact the FCC to request reasonable accommodations (accessible format documents, sign language interpreters, CART, etc.) by e-mail: FCC504@fcc.gov or phone: 202-418-0530 or TTY: 202-418-0432.

All submissions received must include the agency name and WC Docket No. 07-244 and CC Docket No. 95-116. All comments received will be posted without change to http://www.fcc.gov/cgb/ecfs. For detailed instructions for submitting comments and additional information on the rulemaking process, see the SUPPLEMENTARY INFORMATION section of this document.

FOR FURTHER INFORMATION CONTACT: Marilyn Jones, marilyn.jones@fcc.gov or Melissa Kirkel, melissa.kirkel@fcc.gov, of the Competition Policy Division, Wireline Competition Bureau, at (202) 418-1580.

SUPPLEMENTARY INFORMATION: This is a summary of the Commission's Public Notice, DA 11-1558, released September 15, 2011. The full text of this document is available for public inspection and copying during business hours at the FCC Reference Information Center, Portals II, 445 12th St., SW., Room CY-A257, Washington, DC 20554. The documents may also be purchased from BCPI, telephone (202) 488-5300, facsimile (202) 488-5563, TTY (202) 488-5562, e-mail fcc@bcpiweb.com.

On June 20, 2011, the NANC submitted a report on local number portability (LNP) Best Practice 67. The Report notes that since the inception of LNP, service providers have imposed varying thresholds, or limits, on the quantity of telephone numbers they will port within four business days—the porting interval for non-simple ports. To address these variations, Best Practice 67 recommends a set of standard thresholds and intervals for non-simple ports and “projects”—port requests that involve a large quantity of telephone numbers. The NANC notes that at present, port requests above the service provider's maximum threshold can result in an undetermined due date that is ultimately negotiated between the old and new service providers. There is currently no industry-wide standard on what is considered a “project” by the old service provider for the purpose of porting numbers. Best Practice 67 addresses this issue. The NANC also recommends revisions to the NANC LNP Provisioning Flows in support of Best Practice 67.

The Commission seeks comment on Best Practice 67 and the proposed provisioning flows. Specifically, the Commission seeks comment on whether the thresholds and processing timelines for non-simple ports and projects are appropriate and whether the Commission should adopt Best Practice 67 as a rule.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by access the ECFS: http://fjallfoss.fcc.gov/ecfs2/.

• Paper Filers: Parties who choose to file by paper must file an original and one copy of each filing. If more than one docket or rulemaking number appears in the caption of this proceeding, filers must submit two additional copies for each additional docket or rulemaking number.

Filings can be sent by hand or messenger delivery, by commercial overnight courier, or by first class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

This matter shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Sharon E. Gillett,
Chief, Wireline Competition Bureau.

[FR Doc. 2011-25282 Filed 9-29-11; 8:45 am]

BILLING CODE 6712-01-P